FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License number: 4219.

Name: Atlantic Pacific International, Inc.

Address: 3049 Ualena Street, #715, Honolulu, HI 96819.

Date revoked: October 8, 2000.

Reason: Failed to maintain a valid bond.

License number: 14808N.

Name: Korea Marine Transportation, Inc.

Address: 2500 83rd Street, Bldg. 1-W, North Bergen, NJ 07047.

Date revoked: October 26, 2000.

Reason: Failed to maintain a valid bond.

License number: 1048F.

Name: Mark F. Samuels & Co.

Address: 11222 S. La Cienega Blvd., Suite 560, Inglewood, CA 90304.

Date revoked: October 20 2000.

Reason: Failed to maintain a valid bond.

License number: 14781N.

Name: Samshin, Inc. d/b/a Korea Cargo Express.

Address: 8750 N.W. 36th Street, #260, Miami, FL 33178.

Date revoked: October 26, 2000.

Reason: Failed to maintain a valid bond.

License number: 4526F.

Name: Trafik Services, Inc.

Address: 300 Wampanoag Trail, East Providence, RI 02915.

Date revoked: October 25, 2000.

Reason: Failed to maintain a valid bond.

License number: 10339N.

Name: Unitrans Shipping Corp.

Address: 180-02 Eastgate Plaza, Jamaica, NY 11434.

Date revoked: November 2, 2000.

Reason: Failed to maintain a valid bond.

Sandra L. Kusumoto,
Director, Bureau of Consumer Complaints and Licensing.

[FR Doc. 00-29267 Filed 11-14-00; 8:45 am]

BILLING CODE 6730-01-P